ENVIRONMENTAL PROTECTION AGENCY

[FRL-8235-9]

Proposed Agreement and Covenant Not to Sue for Empire Canyon Site, Park City, UT

AGENCY: Environmental Protection Agency.

ACTION: Notice of proposed agreement; request for public comment.

SUMMARY: In accordance with the Comprehensive Environmental Response Compensation, and Liability Act of 1980, as amended, 42 U.S.C. 9601 et seq. (“CERCLA”), notice is hereby given of the proposed Agreement between the U.S. Environmental Protection Agency (“EPA”) and DV Luxury Resort, LLC. (“Settling Respondent”).

The proposed Agreement relates to Settling Respondent's plan to build a resort hotel and condominium project at the Empire Canyon Site located in Park City, Summit County, Utah (the “Site”). Settling Respondent is not a Potentially Responsible Party at the Site. Settling Respondent proposes to lease the Site from United Park City Mines, a Potentially Responsible Party that in 2003 entered into an Administrative Order on Consent with EPA for cleaning up historic mine waste at the Site. Pursuant to the proposed Agreement, the Settling Respondent would undertake additional cleanup at the Site appropriate so that the Site may be used for recreational purposes.

The Settling Respondent has agreed to pay $38,000 to EPA in exchange for a covenant by EPA not to sue the Settling Respondent for certain response costs that may result from transporting mine wastes to the Richardson Flat Site for disposal. These funds will be deposited into the Special Account for the Richardson Flat Site. The Settling Respondent also agrees to pay EPA's oversight costs under this Agreement.

DATES: For thirty (30) days following the date of publication of this Notice, EPA will receive written comments relating to the above referenced Agreement. EPA will consider all comments received and may modify or withdraw its consent to the Agreement if comments received disclose facts or considerations that indicate that modification or withdrawal would be appropriate.

ADDRESSES: EPA's response to any comments, the proposed agreement and additional background information relating to the agreement is available for public inspection at the EPA Superfund Record Center, 999 18th Street, Suite 300, 5th Floor, in Denver, Colorado. Comments and requests for copies of the proposed Agreement should be addressed to Maureen O'Reilly, Enforcement Specialist, Environmental Protection Agency-Region 8, Mail Code 8ENF-RC, 999 18th Street, Suite 300, Denver, Colorado 80202-2466, and should reference the Empire Canyon Site, Park City, Summit County Utah.

FOR FURTHER INFORMATION CONTACT: Margaret J. (“Peggy”) Livingston, Enforcement Attorney, Legal Enforcement Program, Environmental Protection Agency-Region 8, Mail Code 8ENF-L, 999 18th Street, Suite 300, Denver, Colorado 80202-2466, (303) 312-6858.

Dated: October 18, 2006.
Carol Rushin,
Assistant Regional Administrator, Office of Enforcement, Compliance and Environmental Justice, U.S. Environmental Protection Agency, Region 8.

[FR Doc. E6-18294 Filed 10-30-06; 8:45 am]

BILLING CODE 6560-50-P